DEPARTMENT OF THE INTERIOR

Bureau of Land Management

[14X 1109AF LLUT030000-L17110000-PH0000-24-1A]

Notice of Grand Staircase-Escalante National Monument Advisory Committee Meeting

AGENCY: Bureau of Land Management, Interior.

ACTION: Notice.

SUMMARY: In accordance with the Federal Land Policy and Management Act (FLPMA) and the Federal Advisory Committee Act of 1972 (FACA), the Department of the Interior, Bureau of Land Management (BLM), Grand Staircase-Escalante National Monument Advisory Committee (GSENMAC) will meet as indicated below.

DATES: The GSENM MAC will meet Wednesday, May 21, 2014, (1 p.m.-6:00 p.m.) and Thursday, May 22, 2014, (8 a.m.-12 p.m.) in Kanab, Utah.

ADDRESSES: The Committee will meet in the Cottonwood Room at the Bureau of Land Management Complex, 669 South Highway 89A, Kanab, Utah.

FOR FURTHER INFORMATION CONTACT: Larry Crutchfield, Public Affairs Officer, Grand Staircase-Escalante National Monument, Bureau of Land Management, 669 South Highway 89A, Kanab, Utah, 84741; phone (435) 644-1209. Persons who use a telecommunications device for the deaf (TDD) may call the Federal Information Relay Service (FIRS) at 1-800-877-8339 to leave a message or question for the above individual. The FIRS is available 24 hours a day, seven days a week. Replies are provided during normal business hours.

SUPPLEMENTARY INFORMATION: The 15-member GSENMAC was appointed by the Secretary of the Interior on August 2, 2011, pursuant to the Monument Management Plan, the Federal Land Policy and Management Act of 1976 (FLPMA), and the Federal Advisory Committee Act of 1972 (FACA). As specified in the Monument Management Plan, the GSENMAC will have several primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; and, (4) Could be consulted on issues such as protocols for specific projects.

One of the topics to be discussed by the GSENMAC during this meeting includes the ongoing Livestock Grazing Management Plan Amendment and Associated Environmental Impact Statement (LGMPA/AEIS). The BLM is preparing this Plan Amendment because the existing land use plans that provide land-use level decisions for livestock grazing were completed in 1981 and are outdated. The Monument Management Plan that became effective in February 2000 did not address most of the prior livestock grazing decisions. This Plan Amendment will allow the integration of livestock and rangeland management with the other resources in the MMP.

The planning area consists of about 2.1 million acres of land which includes lands in the GSENM and non-monument lands administered by GSENM. The GSENM administers livestock grazing on lands managed by the National Park Service within Glen Canyon National Recreation Area as well as lands within BLM's Kanab and Arizona Strip Field Offices through intra-agency agreements. Additional topics include the formation of a LGMPA/AEIS subcommittee; GSENM division reports; and future meeting dates and other matters as may reasonably come before the GSENMAC.

The entire meeting is open to the public. Members of the public are welcome to address the Committee at 5:00 p.m., local time, on May 21, 2014, and at 12:00 p.m., local time, on May 22, 2014. Depending on the number of persons wishing to speak, a time limit could be established. Interested persons may make oral statements to the GSENMAC during this time or written statements may be submitted for the GSENMAC's consideration. Written statements can be sent to: Grand Staircase-Escalante National Monument, Attn: Larry Crutchfield, 669 South Highway 89A, Kanab, Utah 84741. Information to be distributed to the GSENMAC is requested 10 days prior to the start of the GSENMAC meeting.

All meetings are open to the public; however, transportation, lodging, and meals are the responsibility of the participating public.

Authority: 43 CFR 1784.4-1.

Jenna Whitlock,
Associate State Director.

[FR Doc. 2014-10182 Filed 5-2-14; 8:45 am]

BILLING CODE 4310-DQ-P